EXPORT-IMPORT BANK OF THE UNITED STATES

Agency Information Collection Activities: Current Collection; Comment Request

AGENCY: Export-Import Bank of the United States.

ACTION: Notice of request for comments.

SUMMARY: In accordance with requirements of the Paperwork Reduction Act of 1995, the Export-Import Bank of the United States (Ex-Im Bank) has submitted to the Office of Management and Budget (OMB) a request to review and approve an extension of a currently approved collection described below. This notice is soliciting comments from members of the public concerning the proposed information collection.

DATES: Written comments should be received on or before July 31, 2001 to be assured of consideration.

ADDRESSES: Direct all written comments and recommendations concerning the submission to Mr. David Rostker, Office of Management and Budget, Office of Information and Regulatory Affairs, NEOB, Room 10202, Washington, DC 20503.

FOR FURTHER INFORMATION CONTACT: Copies of these submissions and any additional information may be obtained from Carlista D. Robinson, Export-Import Bank of the U.S., 811 Vermont Avenue, NE., Room 764, Washington, DC 20571 (202-565-3351).

SUPPLEMENTARY INFORMATION: Title & Form Number: Export-Import Bank of the U.S. Preliminary Commitment and Final Commitment Application EIB Form 95-10.

OMB Number: 3048-0005.

Type of Review: Extension of a currently approved collection.

Need and Use: The information requested enables the applicant to provide Ex-Im Bank with the information necessary to determine eligibility for the Loan and Guarantee Programs.

Affected Public: Business or other for-profit.

Respondents: Entities involved in the provision of financing or arranging of financing for foreign buyers of U.S. exports.

Estimated Annual Respondents: 550.

Estimated Time per Respondent: 1.4 hours.

Estimated Annual Burden: 775 hours.

Frequency of Response: When applying for a preliminary or final commitment.

Dated: June 25, 2001.
Carlista D. Robinson,
Agency Clearance Officer.

BILLING CODE 6690-01-M

[FR Doc. 01-16367 Filed 6-28-01; 8:45 am]

BILLING CODE 6690-01-C